DEPARTMENT OF THE INTERIOR

National Park Service

National Register of Historic Places; Notification of Pending Nominations and Related Actions

Nominations for the following properties being considered for listing or related actions in the National Register were received by the National Park Service before April 4, 2009. Pursuant to section 60.13 of 36 CFR part 60 written comments concerning the significance of these properties under the National Register criteria for evaluation may be forwarded by United States Postal Service, to the National Register of Historic Places, National Park Service, 1849 C St., NW, 2280, Washington, DC 20240; by all other carriers, National Register of Historic Places, National Park Service,1201 Eye St., NW, 8th floor, Washington DC 20005; or by fax, 202-371-6447. Written or faxed comments should be submitted by May 4, 2009.

J. Paul Loether,
Chief, National Register of Historic Places/National Historic Landmarks Program.

COLORADO

Weld County

Von Trotha-Firestien Farm at Bracewell, (Historic Farms and Ranches of Weld County MPS) Address Restricted, Greeley, 09000291.

IDAHO

Blaine County

Chase, Eben S. and Elizabeth S., House, 203 E. Bullion St., Hailey, 09000292.

Latah County

Nordby Farmstead, (Agricultural Properties of Latah County, Idaho) 1301 Old Highway 95, Genesee, 09000293.

Snow, Arthur, House, 2949 Clyde Rd., Moscow, 09000294.

ILLINOIS

Carroll County

Mississippi Palisades State Park, (Illinois State Park Facilities Constructed by the Civilian Conservation Corps, 1933-1942) 16327A IL 84, Savanna, 09000295.

Sangamon County

Route 66 South of Lake Springfield, (Route 66 through Illinois MPS) Olde Rt. 66/Olde Carriage Way, Springfield, 09000296.

IOWA

Hardin County

Eldora Downtown Historic District, (Iowa's Main Street Commercial Architecture MPS) Approximately ten blocks in downtown Eldora around the courthouse square, Eldora, 09000297.

Union County

Iowana Hotel, 203 W. Montgomery St., Creston, 09000298.

MASSACHUSETTS

Essex County

Blakeley Building, 475-479 Essex St., Lawrence, 09000299.

MISSOURI

Cape Girardeau County

Jefferson School, 731 Jefferson Ave., Cape Girardeau, 09000300.

Cole County

Stephens, Hugh and Bessie, House, 601 Jackson St., Jefferson City, 09000301.

Newton County

Bonnie & Clyde Garage Apartment, 3347½ Oak Ridge Dr., Joplin, 09000302.

NEW YORK

Kings County

Industrial Complex at 221 McKibbin Street, 221 McKibbin St., Brooklyn, 09000303.

New York County

240 Central Park South, 240 Central Park S., New York, 09000304.

Suffolk County

Cauldwell, William, House, 51 Peconic Ave., Noyac, 09000305.

TEXAS

Dallas County

Fidelity Union Life Insurance Building, 1511 Bryan and 1507 Pacific Ave., Dallas, 09000306.

Matagorda County

Bay City Post Office, 2100 Ave. F, Bay City, 09000307.

Williamson County

Zidell House, 2015 W. Lake Dr., Taylor, 09000308.

WISCONSIN

Jefferson County

Curtis, David W. and Jane, House, 213 E. Sherman Ave., Fort Atkinson, 09000309.

Wood County

Soo Line Steam Locomotive 2442, circa 1800 S. Central Ave., Marshfield, 09000310.

Request for removal has been made for the following resources:

IOWA

Black Hawk County

Fields Barn, SW of Cedar Falls, Cedar Falls, 77000495.

Clarke County

Brady-Bolibaugh House, 217 W. Washington, Osceola, 85000003.

Des Moines County

Union Hotel, 301-311 S. Main St., Burlington, 93000328.

Scott County

Gilruth District No. 4 Schoolhouse, 53rd and Marquette Sts., Davenport, 77000555.

WISCONSIN

Ashland County

Ashland Middle School, 1000 Ellis Ave., Ashland, 80000101.

Rock County

Dow, J.B., House and Carpenter Douglas Barn, 910 Board St., Beloit, 83003415.

Waukesha County

Mukwonago High School, 308 Washington Ave., Mukwonago, 94001211.

[FR Doc. E9-8900 Filed 4-16-09; 8:45 am]

BILLING CODE